DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with May anniversary dates. In accordance with Commerce's regulations, we are initiating those administrative reviews.

DATES: Applicable July 14, 2022.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with May anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Aluminum Extrusions From the People's Republic of China

In the event Commerce limits the number of respondents for individual examination in the administrative review of the antidumping duty order on aluminum extrusions from the People's Republic of China (China), Commerce intends to select respondents based on volume data contained in responses to Q&V questionnaires. Further, Commerce intends to limit the number of Q&V questionnaires issued in the review based on CBP data for U.S. imports of aluminum extrusions from China. The extremely wide variety of individual types of aluminum extrusion products included in the scope of the order on aluminum extrusions would preclude meaningful results in attempting to determine the largest China exporters of subject merchandise by volume. Therefore, Commerce will limit the number of Q&V questionnaires issued based on the import values in CBP data which will serve as a proxy for imported quantities. Parties subject to the review to which Commerce does not send a Q&V questionnaire may file a response to the Q&V questionnaire by the applicable deadline if they desire to be included in the pool of companies from which Commerce will select mandatory respondents. The Q&V questionnaire will be available on Commerce's website at http://trade.gov/enforcement/news.asp on the date of publication of this notice in the Federal Register. The responses to the Q&V questionnaire must be received by Commerce within 14 days of publication of this notice. Please be advised that due to the time constraints imposed by the statutory and regulatory deadlines for antidumping duty administrative reviews, Commerce does not intend to grant any extensions for the submission of responses to the Q&V questionnaire. Parties will be given the opportunity to comment on the CBP data used by Commerce to limit the number of Q&V questionnaires issued. We intend to release the CBP data under APO to all parties having an APO within seven days of publication of this notice in the Federal Register. Commerce invites comments regarding CBP data and respondent selection within five days of placement of the CBP data on the record.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than May 31, 2023.

| Period to be reviewed
AD Proceedings
BELGIUM: Certain Carbon and Alloy Steel Cut-to-Length Plate, A-423-812 | 5/1/21-4/30/22
Industeel Belgium S.A
NLMK Clabecq S.A./NLMK Plate Sales S.A./NLMK Sales Europe S.A./NLMK Manage Steel Center S.A./NLMK La Louviere S.A.⁵
BELGIUM: Stainless Steel Plate in Coils, A-423-808 | 5/1/21-4/30/22
ArcelorMittal Genk
Aperam Stainless Belgium NV (ASB)
Helaxa BVBA
Industeel Belgium
CAMBODIA: Mattresses, A-555-001 | 11/3/20-4/30/22
Best Mattresses International Company Limited
Rose Lion Furniture International Company Limited
CANADA: Large Diameter Welded Pipe, A-122-863 | 5/1/21-4/30/22
Acier Profile SBB Inc
Aciers Lague Steels Inc
Amdor Inc
BPC Services Group
Bri-Steel Manufacturing
Canada Culvert
Canam (St Gedeon)
Cappco Tubular Products Canada Inc
CFI Metal Inc
Dominion Pipe & Piling
Enduro Canada Pipeline Services
Evraz Inc. NA/Evraz Inc. NA Canada/the Canadian National Steel Corporation ⁶
Fi Oilfield Services Canada
Forterra
Gchem Ltd
Graham Construction
Groupe Fordia Inc
Grupo Fordia Inc
Hodgson Custom Rolling
Hyprescon Inc
Interpipe Inc
K K Recycling Services
Kobelt Manufacturing Co
Labrie Environment
Les Aciers Sofatec
Lorenz Conveying P
Lorenz Conveying Products
Matrix Manufacturing
MBI Produits De Forge
Nor Arc
Peak Drilling Ltd
Pipe & Piling Sply Ltd
Pipe & Piling Supplies
Prudental
Prudential
Shaw Pipe Protecction
Shaw Pipe Protection
Tenaris Algoma Tubes Facility
Tenaris Prudential
Welded Tube of Can Ltd
CROATIA: Common Alloy Aluminum Sheet,⁷ A-891-001 | 10/15/20-3/31/22
GERMANY: Carbon and Alloy Steel Cut-To-Length Plate, A-428-844 | 5/1/21-4/30/22
AG der Dillinger Huttenwerke
GERMANY: Common Alloy Aluminum Sheet,⁸ A-428-849 | 10/15/20-3/31/22
Hydro Aluminium Rolled Products GmbH
Speira GmbH
Novelis Deutschland GmbH
Constellium Rolled Products Singen GmbH & Co. KG
GREECE: Large Diameter Welded Pipe, A-484-803 | 5/1/21-4/30/22
Corinth Pipeworks Pipe Industry S.A
INDIA: Certain Welded Carbon Steel Standard Pipes and Tubes, A-533-502 | 5/1/21-4/30/22
Universal Tube and Plastic Industries, Ltd
INDIA: Silicomanganese, A-533-823 | 5/1/21-4/30/22
Maithan Alloys Ltd
INDONESIA: Mattresses, A-560-836 | 11/3/20-4/30/22
Bali Natural Latex
CV. Aumireta Anggun
CV. Lautan Rezeki
Duta Abadi Primantara, Pt
Ecos Jaya JL Pasir Awi
Mimpi
P.T. Barat Daya Gemilang
PT Celebes Putra Prima
PT Demak Putra Mandiri
PT Ecos Jaya Indonesia
PT Graha Anom Jaya
PT Graha Seribusatujaya
PT Grantec Jaya Indonesia
PT Kline Total Logistics Indonesia
PT Massindo International
PT Rubberfoam Indonesia
PT Solo Murni Epte
PT Zinus Global Indonesia
PT. Ateja Multi Industri
PT. Ateja Tritunggal
PT. Aurora World Cianjur
PT. Cahaya Buana Furindotama
PT. CJ Logistics Indonesia
PT. Dinamika Indonusa Prima
PT. Dunlopillo Indonesia
PT. Dynasti Indomegah
PT. Ocean Centra Furnindo
PT. Quantum Tosan Internasional
PT. Romance Bedding & Furniture
PT. Royal Abadi Sejahtera
PT. Transporindo Buana Kargotama
Sonder Canada Inc
Super Poly Industry PT
Zinus Inc
ITALY: Carbon and Alloy Steel Cut-To-Length Plate, A-475-834 | 5/1/21-4/30/22
NLMK Verona S.p.A
Officine Tecnosider s.r.l
JAPAN: Diffusion-Annealed Nickel-Plated Flat-Rolled Steel Products, A-588-869 | 5/1/21-4/30/22
Nikken Las Industry Co., Ltd
Taiyo Manufacturing Co., Ltd
Toyo Kohan Co., Ltd
OMAN: Polyethylene Terephthalate Resin, A-523-810 | 5/1/21-4/30/22
OCTAL SAOC—FZC
REPUBLIC OF KOREA: Carbon and Alloy Steel Cut-To-Length Plate, A-580-887 | 5/1/21-4/30/22
POSCO ⁹
POSCO International Corporation
REPUBLIC OF KOREA: Carbon and Alloy Steel Wire Rod, A-580-891 | 5/1/21-4/30/22
POSCO
POSCO International Corporation
REPUBLIC OF KOREA: Large Diameter Welded Pipe, A-580-897 | 5/1/21-4/30/22
Hyundai RB Co., Ltd
SeAH Steel Corporation
AJU Besteel Co., Ltd
Chang Won Bending Co., Ltd
Daiduck Piping Co., Ltd
Dong Yang Steel Pipe Co., Ltd
Dongbu Incheon Steel Co., Ltd
EEW KHPC Co., Ltd
EEW Korea Co., Ltd
Geumok Tech. Co., Ltd
Hansol Metal Co. Ltd
Histeel Co., Ltd
Husteel Co., Ltd
Hyundai Steel Company
Il Jin Nts Co. Ltd
Kiduck Industries Co., Ltd
Kum Kang Kind. Co., Ltd
Kumsoo Connecting Co., Ltd
Nexteel Co., Ltd
Seonghwa Industrial Co., Ltd
SIN-E B&P Co., Ltd
Steel Flower Co., Ltd
WELTECH Co., Ltd
REPUBLIC OF KOREA: Polyester Staple Fiber, A-580-839 | 5/1/21-4/30/22
Huvis Corporation
Toray Advanced Materials Korea, Inc
SERBIA: Mattresses, A-801-002 | 11/3/20-4/30/22
Healthcare Europe DOO Ruma
SLOVENIA: Common Alloy Aluminum Sheet,¹⁰ A-856-001 | 10/15/20-3/31/22
SOUTH AFRICA: Stainless Steel Plate in Coils, A-791-805 | 5/1/21-4/30/22
Columbus Stainless (PTY) Ltd
TAIWAN: Certain Circular Welded Carbon Steel Pipes and Tubes, A-583-008 | 5/1/21-4/30/22
Shin Yang Steel Co., Ltd
Yieh Hsing Enterprise Co., Ltd
TAIWAN: Stainless Steel Plate in Coil, A-583-830 | 5/1/21-4/30/22
Aurora Metal International Co., Ltd
Build Up Hardware Co., Ltd
Chain Chon Industrial Co., Ltd
Chang Mien Industries Co., Ltd
Chia Far Industries Factory Co., Ltd
Chien Shing Stainless Co., Ltd
China Steel Corporation
China Tah Lee Special Steel Co., Ltd
Da Song Enterprise Co., Ltd
Da Tsai Stainless Steel Co., Ltd
East Track Enterprise Co., Ltd
Gifull Enterprise Co., Ltd
Goang Jau Shing Enterprise Co., Ltd
Goldioceans International Co., Ltd
High Point Steel Mfg. Co., Ltd
Hoka Elements Co., Ltd
Huang-Yi Steel Coil Co., Ltd
JJSE Co., Ltd
Jye Chi Corporation
Kunn Chuan Enterprise Co., Ltd
Lien Kuo Metal Industries Co., Ltd
Lung An Stainless Ind. Co., Ltd
Omen Bright Co., Ltd
PFP Taiwan Co., Ltd
Pyramid Metal Technology Co., Ltd
Shing Shong Ta Metal Co., Ltd
Shye Yao Steel Co., Ltd
Sinkang Industries Co., Ltd
S-More Steel Materials Co., Ltd
Staunch Stainless Steel Co., Ltd
Sun Chun Stainless Co., Ltd
Ta Chen International
Ta Chen Stainless Pipe Co., Ltd
Ta Fong Steel Co., Ltd
Taiwan Nippon Steel Stainless
Tang Eng Iron Works
Tsung Yui Enterprise Co., Ltd
Tzong Ji Metals Co., Ltd
Wuu Jing Enterprise Co., Ltd
Yc Inox Co., Ltd
Yi Shuenn Enterprise Co., Ltd
Yieh Loong Enterprise Co., Ltd. (aka Chung Hung Steel Co., Ltd.)
Yieh Mau Corporation
Yieh Trading Co
Yieh United Steel Corporation
Yuan Long Stainless Steel Corp
Yuen Chang Stainless Steel Co., Ltd
Yuh Sheng Stainless Steel Co., Ltd
TAIWAN: Stilbenic Optical Brightening Agents, A-583-848 | 5/1/21-4/30/22
Teh Fong Min International Co, Ltd
TAIWAN: Common Alloy Aluminum Sheet,¹¹ A-583-867 | 10/15/20-3/31/22
C.S. Aluminum Corporation
THAILAND: Mattresses, A-549-841 | 11/3/20-4/30/22
Saffron Living Co., Ltd
Nisco (Thailand) Co., Ltd
THE PEOPLE'S REPUBLIC OF CHINA: Aluminum Extrusions, A-570-967 | 5/1/21-4/30/22
Ailenmr (Tianjin) Machinary
American International Cargo Service Inc
Anhui Morden Living Co., Ltd
Beijing Kingpeng International Agriculture Corporation
Bisen Smart Access Co., Ltd
Caribbean Galaxy Aluminum, S.R.L
Changshu Wojun Machinery Equipment
Changzhou Hivalue Impex Co Ltd
Changzhou Infusion Plastics Industries
Changzhou Ryan-Al Door
Chenming Industry and Commerce Shouguang Co., Ltd
China Jwell Intelligent Plastic Extrusion Machinery Co., Ltd
CTW Furniture Co., Ltd
Dongying Andy Petroleum Machinery Co., Ltd
Dura Shower Enclosures Co., Ltd
East Asia Aluminum Co., Ltd
Eastlinx Xiamen Co., Ltd
Epson Engineering (Shenzhen) Ltd
Favour Light Co Ltd
Foshan City Nanhai Yongfeng Aluminum
Fuzhou J&K Imp.&Exp. Co., Ltd
General Equipment Technology Development Ltd
Guangdong JMA Aluminum Profile Factory (Group) Co., Ltd
Guangdong Suyue Aluminium Co., Ltd
Guangdong Victor Aluminum Co., Ltd
Guangdong Yaoyinshan Aluminum Co., Ltd
Guangzhou Graly Lighting Co., Ltd
Hangzhou Evernew Machinery & Equipment Co., Ltd
Hangzhou Siyi Imp. &Exp. Co., Ltd
Hota International Logistics Co., Ltd
Huazhijie Plastic Products
Hui Qian (Shanghai) International Trading Co., Ltd
Jakks Pacific (HK) Ltd
Jer Education Technology
Jiangsu Asia Pacific Aviation Technology Co., Ltd
Jiangsu Singcheer Intelligent Equipment Co., Ltd
Jiangsu Yizheng Haitian Aluminum Industrial
Jinming Machinery (Guangdong) Co., Ltd
Lien Chiang Furniture Hardware Co
LongKou Mat Aluminium Co., Ltd
Maxable Global Company Limited
Ningbo Baihui Furniture Co., Ltd
Ningbo Huige Metal Products Co., Ltd
Ningbo Mark One International
Ningbo Yinzhou Outdoor Equipment Co., Ltd
Pacific Precise International Ltd
Qingdao Huayu Hardware Products Co
Qingdao Mrp Industry Co., Ltd
Qingdao Sea Nova Building
Reifenhauser Plastic Machinery (Suzhou) Co., Ltd
Sanming Foreign Trade Development Co., Ltd
Shaanxi Simex Enterprise Co., Ltd
Shandong Golden Realm Industrial Co., Ltd
Shandong Mount Tai Sheng Li Yuan Glass Co., Ltd
Shanghai An Mao E-Commerce Co Ltd
Shanghai Promise Metal Co., Ltd
Shanghai Xindun Trade Co., Ltd
Shenyang Yuanda Aluminum Industry Engineering Co. Ltd
Shenzhen Beiruitong Trade Co., Ltd
Shenzhen Thomas Homeware Co., Limited
Shenzhen Wision Industrial Co., Ltd
Shenzhen Xinjiayi Plastic& Metal, Co. Ltd
Shenzhen Zhongyuan Electronic Co., Ltd
ShineLong Technology Corp., Ltd
Sichuan Hangxin New Glazing Material Co., Ltd
Suzhou Bonate Int. Trading Co., Ltd
Suzhou Futong New Materials and High-tech Co., Ltd
The Tigereye International Trading Co. Ltd
Tianjin Hyosung Packaging Product Co., Ltd
Top Asian Resource Co., Ltd
Wuxi Longdet Imp. & Exp. Co., Ltd
Wuxi Rapid Scaffolding Engineering
Xiamen Rex. Technology Co., Ltd
Yantai Jintai International Trade Co., Ltd
Yonn Yuu Enterprise Co., Ltd
Yuyao Royal Industrial
Zhangzhou Jindian Craft Product Co., Ltd
Zhejiang Hengfeng Technology Co., Ltd
Zhejiang Tangzhengge Plastic Technology Co., Ltd
Zhuji Wenfeng Import and Export Co
THE PEOPLE'S REPUBLIC OF CHINA: Certain Vertical Shaft Engines Between 99cc and Up to 225cc, and Parts Thereof, A-570-124 | 7/23/20-4/30/22
Changzhou Kawasaki and Kwang Yang Engine Co., Ltd
Chongqing AM Pride Power & Machinery Co., Ltd
Chongqing Chen Hui Electric Machinery Co., Ltd
Chongqing Dinking Power Machinery Co., Ltd
Chongqing Ducar Power Equipment Co., Ltd
Chongqing HWASDAN Power Technology Co., Ltd
Chongqing Kohler Engines, Ltd
Chongqing Kohler Motors Co., Ltd
Chongqing Rato Technology Co., Ltd
Chongqing Senci Import & Export Trade Co., Ltd
Chongqing Shineray Agricultural Machinery Co., Ltd
Chongqing Zongshen General Power Machine Co., Ltd./Chongqing Dajiang Power Equipment Co., Ltd./Chongqing Zongshen Power Machinery Co., Ltd.¹²
Fujian Everstrong Lega Power Equipments Co., Ltd
Kawasaki Heavy Industries, Ltd
Lifan Technology (Group) Co., Ltd
Loncin Motor Co., Ltd
Qianjiang Group Wenling Jennfeng Industry Inc
Senci Import & Export Trade Co., Ltd C
Taizhou Sabo Electronics Co., Ltd
Wenling Qianjiang Imp. & Exp. Co., Ltd
Zhejiang Amerisun Technology Co., Ltd
Zhejiang Dobest Power Tools Co., Ltd
THE PEOPLE'S REPUBLIC OF CHINA: Citric Acid and Citrate Salt, A-570-937 | 5/1/21-4/30/22
RZBC Group Co., Ltd
RZBC Co., Ltd., RZBC Import & Export Co., Ltd
RZBC (Juxian) Co., Ltd
THE PEOPLE'S REPUBLIC OF CHINA: Drawn Stainless Steel Sinks,¹³ A-570-983 | 4/1/21-3/31/22
THE PEOPLE'S REPUBLIC OF CHINA: Non-Refillable Steel Cylinders, A-570-126 | 10/30/20-4/30/22
Ningbo Eagle Machinery & Technology Co., Ltd
Sanjiang Kai Yuan Co. Ltd (SKY)
Wuyi Xilinde Machinery Manufacture Co., Ltd
Zhejiang KIN-SHINE Technology Co., Ltd
THE PEOPLE'S REPUBLIC OF CHINA: Pure Magnesium, A-570-832 | 5/1/21-4/30/22
Tianjin Magnesium International Co., Ltd
Tianjin Magnesium Metal Co., Ltd
THE SOCIALIST REPUBLIC OF VIETNAM: Mattresses, A-552-827 | 11/3/20-4/30/22
Ashley Furniture Industries Inc
Ashley Furniture Trading Company
Comfort Bedding Company Limited
Cong Ty Tnhm Nem Thien Kim (a.k.a. Better Zs, Ltd.)
Gesin Vietnam Co., Ltd
Everpia Vietnam
Glory (Viet Nam) Industry Co., Ltd
Hava's Mattress Co., Ltd
Saigon - Kymdan Rubber Stock Co
Mic Luxury
Millennium Furniture Co., Ltd
Nitori Furniture Vietnam EPE
Sinomax Macao Commercial Offshore Ltd
Sinomax (Vietnam) Household Products Limited
Super Foam Vietnam Ltd
Taimei Company Limited
Tongli Vietnam Industries Co., Ltd
Uu Viet Co., Ltd
Van Thanh Mattress
Van Thien Sa
Vietnam Glory Home Furnishings Co., Ltd
Viet Thang Mattress
Wanek Furniture Co., Ltd
TURKEY: Carbon and Alloy Steel Wire Rod, A-489-831 | 5/1/21-4/30/22
Icdas Celik Enerji Tersane ve Ulasim Sanayi A.S
Ege Celik Industrisi Sanayi Ve Ticaret A.S
TURKEY: Circular Welded Carbon Steel Pipes and Tubes, A-489-501 | 5/1/21-4/30/22
Borusan Birlesik Boru Fabrikalari San ve Tic
Borusan Gemlik Boru Tesisleri A.S
Borusan Holding
Borusan Ihracat Ithalat ve Dagitim A.S
Borusan Ithicat ve Dagitim A.S
Borusan Mannesmann Boru Sanayi ve Ticaret A.S
Borusan Mannesmann Yatirim Holding
Borusman Istikbal Ticaret T.A.S
Cayirova Boru Sanayi ve Ticaret A.S
Çinar Boru Profil San. Ve Tic. Aş
Erbosan Erciyas Boru Sanayi ve Ticaret A.S
Kale Bağlanti Teknolojileri San. ve Tic. A.Ş
Noksel Çelik Boru Sanayi A.Ş
Toscelik Metal Ticaret A.Ş
Tosçelik Profil Ve Sac Endüstrisi A.Ş
Tosyali Dis Ticaret A.S
Tubeco Pipe and Steel Corporation
Yucel Boru ve Profil Endustrisi A.S
Yucelboru Ihracat Ithalat ve Pazarlama A.S
TURKEY: Large Diameter Welded Pipe, A-489-833 | 5/1/21-4/30/22
Borusan Mannesmann Boru Sanayi ve Ticaret A.S.¹⁴
Borusan Istikbal Ticaret
Cagil Makina San ve Tic A.S. AKA Cagil Makina A.S
HDM Celik Boru Sanayi ve Ticaret A.S./HDM Spiral Kaynakli Celik Boru A.S.¹⁵
Spirally Welded Steel Pipe Inc
Çimtaş Boru Imalatiral Ticaret Ltd
Emek Boru Makina Sanayi ve Ticaret A.S
Erciyas Celik Boru Sanayi A.S
Mazlum Mangtay Boru Son. Ins. Tar. Urn. San. ve Tic. A.S
Noksel Celik Boru Sanayi A.S
Ozbal Celik Boru San. Tic. Ve TAAH A.S
Toscelik Profil ve Sac End. A.S
Toscelik Profile and Sheet Ind. Co
Toscelik Spiral Boru Uretim A.S
Umran Celik Boru Sanayii A.S
UNITED ARAB EMIRATES: Certain Steel Nails, A-520-804 | 5/1/21-4/30/22
Al Falaq Building Materials, LLC
Al Khashab Building Materials Co., LLC
Al Rafaa Star Building Materials Est
Al Sabbah Trading and Importing, Est
All Ferro Building Materials, LLC
Asgar Ali Yousif Trading Co., LLC
Azymuth Consulting, LLC
Burj Al Tasmeem, Tr
Dubai Wire FZE Gheewala Hardware Trading Company, LLC
Master Nails and Pins Manufacturing LLCNew World International, LLC
Okzeela Star Building Materials Trading, LLC
Rich Well Steel Industries LLC
Samrat Wire Industry, LLC
SK Metal International DMCC
Steel Racks Factory, LLC
Trade Circle Enterprises, LLC
CVD Proceedings
REPUBLIC OF KOREA: Carbon and Alloy Steel Cut-To-Length Plate, C-580-888 | 1/1/21-12/31/21
Ajin Industrial Co., Ltd
BDP International
Blue Track Equipment
Boxco
Bukook Steel Co., Ltd
Buma CE Co., Ltd
China Chengdu International Techno-Economic Cooperation Co., Ltd
Daehan I.M. Co., Ltd
Daehan Tex Co., Ltd
Daelim Industrial Co., Ltd
Daesam Industrial Co., Ltd
Daesin Lighting Co., Ltd
Daewoo International Corp
Dong Yang Steel Pipe
DK Dongshin Co., Ltd
Dongbu Steel Co., Ltd
Dongkuk Industries Co., Ltd
Dongkuk Steel Mill Co., Ltd
EAE Automotive Equipment
EEW KHPC Co., Ltd
Eplus Expo Inc
GS Global Corp
Haem Co., Ltd
Han Young Industries
Hyosung Corp
Hyundai Steel Co
Jinmyung Frictech Co., Ltd
Khana Marine Ltd
Kindus Inc
Korean Iron and Steel Co., Ltd
Kyoungil Precision Co., Ltd
Menics
POSCO
POSCO International Corporation ¹⁶
Qian'an Rentai Metal Products Co., Ltd
Samsun C&T Corp
Samsung
Shinko
Shipping Imperial Co., Ltd
Sinchang Eng Co., Ltd
SK Networks Co., Ltd
SNP Ltd
Steel N People Ltd
Summit Industry
Sungjin Co., Ltd
Young Sun Steel
REPUBLIC OF KOREA: Large Diameter Welded Pipe, C-580-898 | 1/1/21 -12/31/21
AJU Besteel Co., Ltd
Chang Won Bending Co., Ltd
Daiduck Piping Co., Ltd
Dong Yang Steel Pipe Co., Ltd
Dongbu Incheon Steel Co., Ltd
EEW KHPC Co., Ltd
EEW Korea Co., Ltd
Hansol Metal Co. Ltd
HiSteel Co., Ltd
Husteel Co., Ltd.¹⁷
Hyundai RB Co., Ltd
Hyundai Steel Company ¹⁸
Il Jin Nts Co. Ltd
Kem Solutions Co., Ltd
Kiduck Industries Co., Ltd
Kum Kang Kind. Co., Ltd
Kumsoo Connecting Co., Ltd
Nexteel Co., Ltd
POSCO International Corporation
Samkang M&T Co., Ltd
SeAH Steel Corporation
Seonghwa Industrial Co., Ltd
SIN-E B&P Co., Ltd
Steel Flower Co., Ltd
WELTECH Co., Ltd
SOUTH AFRICA: Stainless Steel Plate in Coils, C-791-806 | 1/1/21-12/31/21
Columbus Stainless (PTY) Ltd
THE PEOPLE'S REPUBLIC OF CHINA: Aluminum Extrusions, C-570-968 | 1/1/21-12/31/21
American International Cargo Service Inc
Anhui Morden Living Co., Ltd
Anson
Beijing Kingpeng International Agriculture Corporation
Bisen Smart Access Co., Ltd
Caribbean Galaxy Aluminum, S.R.L
Changshu Liyuan Imp. & Exp. Co., Ltd
Changshu Wojun Machinery Equipment
Changzhou Hivalue Impex Co Ltd
Changzhou Infusion Plastics Industries
Changzhou Ryan-Al Door
Changzhou Yongming Machinery Manufacturing Co., Ltd
Chenming Industry and Commerce Shouguang Co., Ltd
Comau (Shanghai) Engineering Co., Ltd
Dalian Senmiao Wooden Products Co., Ltd
Dmax New Material Technology Co., Ltd
Dura Shower Enclosures Co., Ltd
Eastlinx Xiamen Co., Ltd
Epson Engineering (Shenzhen) Ltd
Foshan City Nanhai Yongfeng Aluminum
Fuzhou Sunmodo New Energy Equipment Co., Ltd
General Equipment Technology Development Ltd
Guangdong Canbo Electrical Co., Ltd
Guangdong JMA Aluminum Profile Factory (Group) Co., Ltd
Guangdong Victor Aluminum Co., Ltd
Guangdong Yaoyinshan Aluminum Co., Ltd
Guangzhou Graly Lighting Co., Ltd
Hangzhou Evernew Machinery & Equipment Co., Ltd
Hangzhou Siyi Imp.& Exp. Co., Ltd
Hota International Logistics Co., Ltd
HTL Furniture (China) Co., Ltd
Huazhijie Plastic Products
Hui Qian (Shanghai) International Trading Co., Ltd
Jer Education Technology
Ji & Da Trading Co, Ltd
Jiangsu Asia Pacific Aviation Technology Co., Ltd
Jiangsu Singcheer Intelligent Equipment Co., Ltd
Larkcop International Co Ltd
Lien Chiang Furniture Hardware Co
Maxable Global Company Limited
Mithras Glass Hardware Factory
Ningbo Baihui Furniture Co., Ltd
Ningbo Huige Metal Products Co., Ltd
Ningbo Mark One International
Ningbo Yinzhou Outdoor Equipment Co., Ltd
Novista Group Co., Ltd
Paleo Furniture Co., Ltd
Qingdao Huayu Hardware Products Co
Qingdao Mrp Industry Co., Ltd
Qingdao Sea Nova Building
Reifenhauser Plastics Machinery (Suzhou) Co., Ltd
Rubicon Impt & Expt Co., Limited
Shandong Golden Realm Industrial Co., Ltd
Shandong Mount Tai Sheng Li Yuan Glass Co., Ltd
Shanghai An Mao E-Commerce Co Ltd
Shanghai Jobbetter Plastic Machinery Co., Ltd
Shanghai Promise Metal Co Ltd
Shanghai Xindun Trade Co., Ltd
Shenyang Yuanda Aluminum Industry Engineering Co. Ltd
Shenzhen Beiruitong Trade Co., Ltd
Shenzhen Thomas Homeware Co., Limited
Shenzhen Wanduoyi Supply Chain Co., Ltd
Shenzhen Wision Industrial Co., Ltd
Shenzhen Xinjiayi Plastic & Metal, Co. Ltd
ShineLong Technology Corp., Ltd
Sichuan Hangxin New Glazing Material Co., Ltd
Suzhou Bonate Int. Trading Co., Ltd
Suzhou Futong New Materials and High-tech Co., Ltd
Suzhou Hengxiang Import & Export Co., Ltd
Suzhou Jwell Machinery Co., Ltd
Taizhou Meihua Work of Art Co., Ltd
The Tigereye International Trading Co. Ltd
Tianjin Hyosung Packaging Product Co., Ltd
Top Asian Resource Co., Ltd
Wuxi Longdet Imp. & Exp. Co., Ltd
Wuxi Rapid Scaffolding Engineering
Xiamen Hosetechnique Ltd
Yantai Jintai International Trade Co., Ltd
Jiangsu Yizheng Haitian Aluminum Industrial
Yonn Yuu Enterprise Co., Ltd
Yuyao Royal Industrial
Zhangjiagang Kingplas Machinery Co., Ltd
Zhejiang Hengfeng Technology Co., Ltd
Zhuji Wenfeng Import and Export Co
THE PEOPLE'S REPUBLIC OF CHINA: Certain Vertical Shaft Engines Between 99cc and Up To 225cc, and Parts Thereof, C-570-125 | 5/26/20-12/31/21
Changzhou Kawasaki and Kwang Yang Engine Co., Ltd
ChongQing AM Pride Power & Machinery Co., Ltd
Chongqing Chen Hui Electric Machinery Co., Ltd
Chongqing Dinking Power Machinery Co., Ltd
Chongqing Ducar Power Equipment Co., Ltd
Chongqing Hwasdan Power Technology Co., Ltd
Chongqing Kohler Engines, Ltd
Chongqing Kohler Motors Co., Ltd
Chongqing Rato Technology Co., Ltd
Chongqing Senci Import & Export Trade Co., Ltd
Chongqing Shineray Agricultural Machinery Co., Ltd
Chongqing Zongshen General Power Machine Co., Ltd./Chongqing Dajiang Power Equipment Co., Ltd
Fujian Everstrong Lega Power Equipments Co., Ltd
Kawasaki Heavy Industries, Ltd
Lifan Technology (Group) Co., Ltd
Loncin Motor Co., Ltd
Qianjiang Group Wenling Jennfeng Industry Inc
Taizhou Sabo Electronics Co., Ltd
Wenling Qianjiang Imp. & Exp. Co., Ltd
Zhejiang Amerisun Technology Co., Ltd
Zhejiang Dobest Power Tools Co., Ltd
THE PEOPLE'S REPUBLIC OF CHINA: Mattresses, C-570-128 | 9/11/20-12/31/21
Aishu Shanghai Ltd, Mattress Co
Aonidisi Home Furniture Manufactory
Beijing Aris Furniture Co., Ltd
Chengdu Bayi Mattress Factory
Chongqing Wei Lan Mattress Furniture Co Ltd
De Rucci Beddings Co., Ltd
Foshan Eon Home Co., Ltd
Foshan Golden Furniture Co., Ltd
Guangdong Diglant Furniture Industrial Co., Ltd
Guangzhou Shangpin Home Collection Co., Ltd
Hangzhou Hansan Home Furniture Co. Ltd
Harbin Homey Industrial Group Co., Ltd
Healthcare Co. Ltd
Huaian Kanway Chemical Technology Co. Ltd (Wellcare)
Hubei Lianle Bedding Mattress Group Co. Ltd
Hunan Goodnight Home Furnishings Industry Co., Ltd
Jason Furniture (Hangzhou) Co. Ltd
Jiangsu JSY Latex Products Co. Ltd
Jiaxing Yuan Chang Furniture Co., Ltd - Mellkit
Jinlongheng Furniture Co., Ltd
Kewei Furniture Co. Ltd.
Landbond Furniture Group Co. Ltd
Lixing Industrial Co. Ltd
Megafeat Bedding Co. Ltd., also known as Ningbo Megafeat Bedding Co., Ltd
Ningbo Mengshen Mattress Machinery Co., Ltd
Quan Li Spring Hardware Factory
Quanyou Furniture Co Ltd
Rayson Global Co., Ltd
Relux Mattress Co., Ltd
Shandong Fengyang Group Co Ltd
Shandong Yantai Jisi Furniture Group Co Ltd
Shanghai Gaoyu Foam Products Co., Ltd
Shanghai King Koil Sleep System Co., Ltd
Shanghai Shenbao Mattress Factory
Shenzhen Hengang Industries Co., Ltd
Shenzhen Simmons Bedding & Furniture
Shenzhen Tiancheng Furniture Co., Ltd. Hong Ping Guo - Red Apple
Shenzhen Yuanchao Household Goods Co., Ltd - CBD
Shenzhen Zhanyue Furniture Co. Ltd
Shilikang Furniture Co., Ltd
Sinomax
South Huiton Co., Ltd. - Dazhiran
Stylution Int'l (China) Corp.
Suibao Eurasia Mattress & Furniture Co., Ltd
Warm Universe Home Products Co. Ltd
Xilinmen Group Co. Ltd
YuanFangYuan Industry Development Co., Ltd - Shenzhen YFY Furniture
Zhejiang Huaweimei Group Co. Ltd
Zinus Xiamen
THE PEOPLE'S REPUBLIC OF CHINA: Non-Refillable Steel Cylinders, C-570-127 | 8/28/20-12/31/21
Ningbo Eagle Machinery & Technology Co., Ltd
Sanjiang Kai Yuan Co. Ltd. (SKY)
Wuyi Xilinde Machinery Manufacture Co., Ltd
Zhejiang KIN-SHINE Technology Co., Ltd
THE PEOPLE'S REPUBLIC OF CHINA: Twist Ties,¹⁹ C-570-132 | 12/01/20-12/31/21
TURKEY: Large Diameter Welded Pipe, C-489-834 | 1/1/21-12/31/21
Borusan Mannesmann Boru Sanayi ve Ticaret A.S.²⁰
Borusan Istikbal Ticaret
Cagil Makina San ve Tic A.S. AKA Cagil Makina A.S
HDM Celik Boru Sanayi ve Ticaret A.S./HDM Spiral Kaynakli Celik Boru A.S.²¹
Spirally Welded Steel Pipe Inc
Çimtaş Boru Imalatiral Ticaret Ltd
Emek Boru Makina Sanayi ve Ticaret A.S
Eriyas Celik Boru Sanayi A.S
Mazlum Mangtay Boru Son. Ins. Tar. Urn. San. ve Tic. A.S
Noksel Celik Boru Sanayi A.S
Ozbal Celik Boru San. Tic. Ve TAAH A.S
Toscelik Profil ve Sac End. A.S
Toscelik Profile and Sheet Ind. Co
Toscelik Spiral Boru Uretim A.S
Umran Celik Boru Sanayii A.S

Suspension Agreements

None.

⁵ In past reviews, Commerce has treated these companies as a single entity. See, e.g., Certain Carbon and Alloy Steel Cut-To-Length Plate from Belgium: Final Results of Antidumping Duty Administrative Review and Final Determination of No Shipments; 2019-2020, 87 FR 7116 (February 8, 2022). Absent information to the contrary, we intend to continue to treat these companies as a single entity for the purpose of this administrative review.

⁶ In the underlying investigation and past reviews, Commerce treated these companies as a single entity. See, e.g., Large Diameter Welded Pipe from Canada: Antidumping Duty Order, 84 FR 18775 (May 2, 2019); Large Diameter Welded Pipe from Canada: Final Results of Antidumping Duty Administrative Review and Final Determination of No Shipments; 2018- 2020, 87 FR 6497 (February 4, 2022). In its request for administrative review, the American Line Pipe Producers Association requested review of “Canadian National Steel Corp.” which appears to be an abbreviation of the full company name. Commerce included only the full name of this company within the single entity in this notice, as it appears in the company's request for review.

⁷ Commerce hereby corrects the inadvertent omission of the full name of the proceeding as listed in Initiation of Antidumping and Countervailing Duty Administrative Reviews, 87 FR 35165, 35167 (June 9, 2022) (April Initiation Notice).

⁸ Commerce hereby corrects the inadvertent omission of this administrative review from the April Initiation Notice.

⁹ Commerce has determined that POSCO, POSCO International Corporation, POSCO SPS, and certain distributors and service centers (Taechang Steel Co., Ltd., and Winsteel Co., Ltd.) should be treated as a single entity (collectively, the POSCO single entity). See Carbon and Alloy Steel Cut-to-Length Plate From the Republic of Korea: Final Results of Antidumping Duty Administrative Review; 2019-2020, 87 FR 6483 (February 4, 2022).

¹⁰ Commerce hereby corrects the inadvertent omission of the full name of the proceeding as listed in the April Initiation Notice.

¹¹ Commerce hereby corrects the inadvertent omission of this administrative review from the April Initiation Notice.

¹² In the less-than-fair-value investigation, Commerce determined that these companies should be treated as a single entity. See Certain Vertical Shaft Engines Between 99cc and Up To 225cc, and Parts Thereof, from the People's Republic of China: Final Affirmative Determination of Sales at Less Than Fair Value and Final Affirmative Determination of Critical Circumstances, in Part, 86 FR 14077 (March 12, 2021). Absent information to the contrary, we intend to continue to treat these companies as a single entity for the purpose of this administrative review.

¹³ Commerce hereby corrects the misspelling of the full name of the proceeding as listed in Initiation of Antidumping and Countervailing Duty Administrative Reviews, 87 FR 35165, 35170 (June 9, 2022).

¹⁴ We note that subject merchandise produced and exported by Borusan Mannesmann Boru Sanayi ve Ticaret A.S. (Borusan) was excluded from the order effective June 1, 2020. See Large Diameter Welded Pipe from the Republic of Turkey: Notice of Court Decision Not in Harmony With Amended Final Determination in the Less-Than-Fair-Value Investigation; Notice of Amended Final Determination Pursuant to Court Decision; and Notice of Revocation of Antidumping Duty Order, in Part, 85 FR 35262, 35264 (June 9, 2020). Commerce also stated in this notice that it would not initiate any new reviews of Borusan's entries. Accordingly, we are initiating this administrative review with respect to Borusan only for subject merchandise produced in Turkey where Borusan acted as either the manufacturer or exporter (but not both).

¹⁵ In English, the name of HDM Spiral Kaynakli Celik Boru A.S. is HDM Spirally Welded Steel Pipe Co. Inc.

¹⁶ In their request for administrative review, Cleveland-Cliffs Steel LLC, Nucor Corporation, and SSAB Enterprises LLC requested review of “POSCO International Corp.” which appears to be an abbreviation of the full company name. We listed here only the full company name, as it appears in the company's request for review.

¹⁷ Subject merchandise both produced and exported by Husteel Co., Ltd. (Husteel) is excluded from the countervailing duty order. See Large Diameter Welded Pipe from the Republic of Korea: Countervailing Duty Order, 84 FR 18773 (May 2, 2019). Thus, Husteel's inclusion in this administrative review is limited to entries for which Husteel was not both the producer and exporter of the subject merchandise.

¹⁸ Subject merchandise both produced and exported by Hyundai Steel Company (Hyundai Steel) and subject merchandise produced by Hyundai Steel and exported by Hyundai Corporation are excluded from the countervailing duty order. See Large Diameter Welded Pipe from the Republic of Korea: Countervailing Duty Order, 84 FR 18773 (May 2, 2019). Thus, Hyundai Steel's inclusion in this administrative review is limited to entries for which Hyundai Steel was not the producer and exporter of the subject merchandise and for which Hyundai Steel was not the producer and Hyundai Corporation was not the exporter of subject merchandise.

¹⁹ Commerce hereby corrects the period of review for this proceeding as listed in Initiation of Antidumping and Countervailing Duty Administrative Reviews, 87 FR 35165, 35176 (June 9, 2022).

²⁰ Subject merchandise produced and exported by Borusan Mannesmann Boru Sanayi ve Ticaret A.S. (Borusan) was excluded from the order. See Large Diameter Welded Pipe From the Republic of Turkey: Countervailing Duty Order, 84 FR 18771, 18772 (May 2, 2019). Accordingly, we are initiating this administrative review with respect to Borusan only for subject merchandise produced in Turkey where Borusan acted as either the manufacturer or exporter (but not both).

²¹ In English, the name of HDM Spiral Kaynakli Celik Boru A.S. is HDM Spirally Welded Steel Pipe Co. Inc.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,²² available at www.govinfo.gov/content/pkg/FR-2013-07-17/pdf/2013-17045.pdf, prior to submitting factual information in this segment. Note that Commerce has temporarily modified certain of its requirements for serving documents containing business proprietary information, until further notice.²³

²² See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

²³ See Temporary Rule Modifying AD/CVD Service Requirements Due to COVID-19, 85 FR 41363 (July 10, 2020).

Any party submitting factual information in an AD or CVD proceeding must certify to the accuracy and completeness of that information using the formats provided at the end of the Final Rule.²⁴ Commerce intends to reject factual submissions in any proceeding segments if the submitting party does not comply with applicable certification requirements.

²⁴ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.²⁵ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

²⁵ See 19 CFR 351.302.

These initiations and this notice are in accordance with section 751(a) of the Act (19 U.S.C. 1675(a)) and 19 CFR 351.221(c)(1)(i).

Dated: July 5, 2022.
James Maeder,
Deputy Assistant Secretary for Antidumping and Countervailing Duty Operations.

[FR Doc. 2022-15085 Filed 7-13-22; 8:45 am]

BILLING CODE 3510-DS-P